DEPARTMENT OF AGRICULTURE

Forest Service

Information Collection; Day Use on the National Forests of Southern California

AGENCY: Forest Service, USDA.

ACTION: Notice; request for comment.

SUMMARY: In accordance with the Paperwork Reduction Act of 1995, the Forest Service is seeking comments from all interested individuals and organizations on the extension information collection, Day Use on the National Forests of Southern California.

DATES: Comments must be received in writing on or before November 28, 2005.

ADDRESSES: Comments concerning this notice should be addressed to Dr. Deborah J. Chavez, Pacific Southwest Research Station, 4955 Canyon Crest Drive, Riverside, CA 92507. Comments also may be submitted via facsimile to (909) 680-1501, or send an e-mail to dchavez@fs.fed.us.

The public may inspect comments received at the address above during normal business hours. Visitors are encouraged to call ahead to (909) 680-1500 to facilitate entry to the building.

FOR FURTHER INFORMATION CONTACT: Dr. Deborah J. Chavez, Pacific Southwest Research Station, (909) 680-1558, e-mail to dchavez@fs.fed.us. Individuals who use telecommunication devices for the deaf may call the Federal Information Relay Service at 1-800-877-8339 twenty-four hours a day, every day of the year, including holidays.

SUPPLEMENTARY INFORMATION: Title: Day Use on the National Forests of Southern California.

OMB Number: 0596-0129.

Expiration Date of Approval: 3/31/2006.

Type of Request: Extension.

Abstract: Users of urban proximate National Forests in Southern California come from a variety of ethnic/racial, income, age, educational, and other socio-demographic backgrounds. The activities pursued, information sources utilized, and site attributes preferred are just some of the items affected by these differences. Past studies completed through previously approved collections have provided baseline information from which managers have made decisions, revised forest plans, and renovated/redesigned recreation sites. Additional information is needed for the managers of National Forests in Southern California, in part to validate previous results and in part because of the continuously changing profile of the visitor population recreating on the National Forests of Southern California. In the absence of the resultant information from the proposed series, the Forest Service will be ill-equipped to implement management changes required to respond to the needs and preferences of day use visitors. Data will be collected from visitors at outdoor recreation day use sites (these include developed picnic areas, general forest day use sites, off-road staging areas, trails, etc.) on National Forests in Southern California. Sites, dates of data collection, and individuals participating in the study will be randomly selected for inclusion in the study. Survey instruments will be available in English and Spanish and bilingual research teams will collect the data. Participation in this study is voluntary. The maximum amount of completion time will average 15 minutes or less. Participants will answer questions on the following topics: socio-demographic profile; National Forest visitation history and patterns; activity patterns; information and communication; site amenities/characteristics; perceptions about the environment and land uses; and general comments. Urban National Forests in Southern California have used the information to assist in effective management of recreation activities in the region studied. Data collected previously has been used by the agency to institute forest newspapers, add site renovations to an existing picnic area, and in forest planning. Results have been presented at local, national and international meetings, and have been published in several outlets. Data generated through this collection will be utilized in a similar manner as well as provide opportunities for comparisons of visitor profile and use shifts over time. Data will be evaluated and analyzed by Dr. Deborah J. Chavez at the Pacific Southwest Research Station. Consequences for not collecting this data would be (a) decreased service delivery due to decreased quality and breadth of information provided to resource managers on the socio-demographic profile of visitors, visitation history and patterns, information and communication, site amenities/characteristics, perceptions about the environment and land uses, (b) decreased ability to continue to expand approved research work unit's assigned study topics such as understanding visitor profiles, (c) increased response time for inquiries into topics from managers and university contacts, (d) increased dependency on cooperator availability to carry out research unit mission, and (e) loss of information represented in follow-up longitudinal studies.

Estimate of Annual Burden: 15 minutes per respondent.

Type of Respondents: Recreation visitors to urban National Forests in Southern California.

Estimated Annual Number of Respondents: 600 per year.

Estimated Annual Number of Responses per Respondent: 1 per year.

Estimated Total Annual Burden on Respondents: 150 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Dated: September 14, 2005.
Ann M. Bartuska,
Deputy Chief for Research & Development.

[FR Doc. 05-19424 Filed 9-28-05; 8:45 am]

BILLING CODE 3410-11-U